FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than February 1, 2008.

A. Federal Reserve Bank of Chicago (Burl Thornton, Assistant Vice President) 230 South LaSalle Street, Chicago, Illinois 60690-1414:

1. Black River BancVenture, Inc., Memphis, Tennessee; to acquire 9.90 percent of the voting shares of Cornerstone Bank, Moorestown, New Jersey.

B. Federal Reserve Bank of St. Louis (Glenda Wilson, Community Affairs Officer) 411 Locust Street, St. Louis, Missouri 63166-2034:

1. Community First Bancshares, Inc., Harrison, Arkansas; to acquire additional voting shares, for a total of not more 24.99 percent of the voting shares of White River Bancshares Company, Fayetteville, Arkansas, and thereby indirectly acquire voting shares of Signature Bank, Fayetteville, Arkansas.

C. Federal Reserve Bank of Minneapolis (Jacqueline G. King, Community Affairs Officer) 90 Hennepin Avenue, Minneapolis, Minnesota 55480-0291:

1. United Citizens 401(K) Savings Plan, Osseo, Wisconsin; to become a bank holding company by acquiring up to 56 percent of the voting shares of United Bancorporation, and thereby indirectly acquire voting shares of United Bank, both of Osseo, Wisconsin; Cambridge State Bank, Cambridge, Wisconsin; Lincoln Community Bank, Merrill, Wisconsin; Bank of Poynette, Poynette, Wisconsin; Clark County State Bank, Osceola, Iowa; Farmers State Bank, Stickney, South Dakota; and Farmers & Merchants State Bank, Iroquois, South Dakota.

D. Federal Reserve Bank of Dallas (W. Arthur Tribble, Vice President) 2200 North Pearl Street, Dallas, Texas 75201-2272:

1. Commerce Financial Corporation, Corpus Christi, Texas; to become a bank holding company by acquiring 100 percent of the voting shares of Security State Bancshares, Inc., and indirectly acquire voting shares of Security State Bank, both of Stockdale, Texas. Comments regarding this application must be received at the Reserve Bank indicated or the offices of the Board of Governors not later than January 28, 2008.

E. Federal Reserve Bank of San Francisco (Tracy Basinger, Director, Regional and Community Bank Group) 101 Market Street, San Francisco, California 94105-1579:

1. Western Capital Corporation; to become a bank holding company by acquiring 100 percent of the voting shares of Western Capital Bank (in organization), both of Boise, Idaho.

Board of Governors of the Federal Reserve System, January 2, 2008.
Jennifer J. Johnson,
Secretary of the Board.

[FR Doc. E8-29 Filed 1-7-08; 8:45 am]

BILLING CODE 6210-01-S